DEPARTMENT OF VETERANS AFFAIRS

[OMB Control No. 2900-0521]

Compliance Inspection Report

AGENCY: Veterans Benefits Administration, Department of Veterans Affairs.

ACTION: Notice; correction.

SUMMARY: The Department of Veterans Affairs (VA) published a collection of information notice in the Federal Register on Wednesday, April 5, 2017 that contained an error. The 60-day Public Comment notice identified of the wrong title for the Agency Information Collection Activity. This document corrects the notice by replacing the title in error: “Compliance Report” with the correct title: “Credit Underwriting Standards and Procedures for Processing VA Guaranteed Loans.”

FOR FURTHER INFORMATION CONTACT: Cynthia Harvey-Pryor, Enterprise Records Service (005R1B), Department of Veterans Affairs, 810 Vermont Avenue NW., Washington, DC 20420, at 202-461-5870.

Correction

In FR Doc. 2017-06687, published on Wednesday, April 5, 2017 at 82FR64, make the following corrections. On page 16664, in the heading “Agency Information Collection Activity: Compliance Inspection Report, and also under SUPPLEMENTARY INFORMATION: Title: Compliance Inspection Report, please correct and replace the titles with, “Agency Information Collection Activity: Credit Underwriting Standards and Procedures for Processing VA Guaranteed Loans” and under “SUPPLEMENTARY INFORMATION: Title: Credit Underwriting Standards and Procedures for Processing VA Guaranteed Loans.”

By direction of the Secretary.
Dated: April 10, 2017.
Cynthia Harvey-Pryor,
Department Clearance Officer, Enterprise Records Service, Office of Quality and Compliance, Department of Veterans Affairs.

[FR Doc. 2017-07480 Filed 4-12-17; 8:45 am]

BILLING CODE 8320-01-P